DEPARTMENT OF VETERANS AFFAIRS

Notice of Establishment of Commission on Care

The Department of Veterans Affairs (VA) hereby gives notice of the establishment of the Commission on Care (“the Commission”), authorized by section 202 of the Veterans Access, Choice, and Accountability Act of 2014 (VACAA),

The Commission will examine the access of Veterans to health care from VA and strategically examine the access of Veterans how best to organize the Veterans Health Administration, locate health care resources, and deliver health care to Veterans during the 20-year period beginning on the date of the enactment of VACAA, August 7, 2014.

The Commission members will be composed of 15 voting members who are appointed by the President and Congressional leadership for the life of the Commission in accordance with section 202(a)(2) of VACAA.

Any member of the public seeking additional information should contact Ms. Susan Webman, Executive Director (10P1), Veterans Health Administration, Department of Veterans Affairs, 810 Vermont Avenue NW., Washington, DC or email at Susan.Webman@va.gov or phone at (202) 461-4057.

Dated: August 3, 2015.
Rebecca Schiller,
Committee Management Officer.

[FR Doc. 2015-19363 Filed 8-6-15; 8:45 am]

BILLING CODE 8320-01-P